DEPARTMENT OF DEFENSE

Office of the Secretary

[Transmittal Nos. 15-32]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 15-32 with attached transmittal, policy justification, and Sensitivity of Technology.

Dated: May 8, 2015.
Aaron Siegel,
Alternate OSD Federal Register Liaison Officer, Department of Defense.

Transmittal No.: 15-32

Notice of Proposed Issuance of Letter of Offer Pursuant to Section 36(b)(1) of the Arms Export Control Act, as amended

(i) Prospective Purchaser: Government of Japan

(ii) Total Estimated Value:

Major Defense Equipment * | $1.8 billion
Other | $1.2 billion
Total | $3.0 billion

(iii) Description and Quantity or Quantities of Articles or Services under Consideration for Purchase: 17 V-22B Block C Osprey aircraft, 40 AE1107C Rolls Royce Engines, 40 AN/AAQ-27 Forward Looking InfraRed Radars, 40 AN/AAR-47 Missile Warning Systems, 40 AN/APR-39 Radar Warning Receivers, 40 AN/ALE-47 Countermeasure Dispenser Systems, 40 AN/APX-123 Identification Friend or Foe Systems, 40 AN/APN-194 Radar Altimeters, 40 AN/ARN-147 VHF Omni-directional Range (VOR) Instrument Landing System (ILS) Beacon Navigation Systems, 40 629F-23 Multi-Band Radios (Non-COMSEC), 40 AN/ASN-163 Miniature Airborne Global Positioning System (GPS) Receivers (MAGR), 40 AN/ARN-153 Tactical Airborne Navigation Systems, 80 Night Vision Goggles, Joint Mission Planning System (JMPS) with unique planning components, publications and technical documentation, aircraft spares and repair parts, repair and return, aircraft ferry services, tanker support, support and test equipment, personnel training and training equipment, software, U.S. Government and contractor engineering, logistics and technical support services, and other elements of technical and program support.

(iv) Military Department: Navy (SCH)

(v) Prior Related Cases, if any: None

(vi) Sales Commission, Fee, etc., Paid, Offered, or Agreed to be Paid: None

(vii) Sensitivity of Technology Contained in the Defense Article or Defense Services Proposed to be Sold: See Annex attached

(viii) Date Report Delivered to Congress: 04 May 2015

* as defined in Section 47(6) of the Arms Export Control Act.

POLICY JUSTIFICATION

Japan—V-22B Block C Osprey Aircraft

The Government of Japan has requested a possible sale of 17 V-22B Block C Osprey aircraft, 40 AE1107C Rolls Royce Engines, 40 AN/AAQ-27 Forward Looking InfraRed Radars, 40 AN/AAR-47 Missile Warning Systems, 40 AN/APR-39 Radar Warning Receivers, 40 AN/ALE-47 Countermeasure Dispenser Systems, 40 AN/APX-123 Identification Friend or Foe Systems, 40 AN/APN-194 Radar Altimeters, 40 AN/ARN-147 VHF Omni-directional Range (VOR) Instrument Landing System (ILS) Beacon Navigation Systems, 40 629F-23 Multi-Band Radios (Non-COMSEC), 40 AN/ASN-163 Miniature Airborne Global Positioning System (GPS) Receivers (MAGR), 40 AN/ARN-153 Tactical Airborne Navigation Systems, 80 Night Vision Goggles, Joint Mission Planning System (JMPS) with unique planning components, publications and technical documentation, aircraft spares and repair parts, repair and return, aircraft ferry services, tanker support, support and test equipment, personnel training and training equipment, software, U.S. Government and contractor engineering, logistics and technical support services, and other elements of technical and program support. The estimated cost is $3 billion.

This proposed sale will contribute to the foreign policy and national security of the United States. Japan is one of the major political and economic powers in East Asia and the Western Pacific and a key partner of the United States in ensuring peace and stability in that region. It is vital to the U.S. national interest to assist Japan in developing and maintaining a strong and ready self-defense capability. This proposed sale is consistent with U.S. objectives and the 1960 Treaty of Mutual Cooperation and Security.

Japan is modernizing its transport fleet to better support its defense and special mission needs. The proposed sale of V-22B Block C Osprey aircraft will greatly enhance the Japan Ground Self-Defense Force's humanitarian and disaster relief capabilities and support amphibious operations. This sale will promote burden sharing with our ally and interoperability with U.S. forces. Japan will have no difficulty absorbing these aircraft into its armed forces.

The proposed sale of this weapon system will not alter the basic military balance in the region.

The principal contractors will be Bell Helicopter and Boeing Rotorcraft Systems via a joint venture arrangement with initial assembly of aircraft fuselage occurring in Ridley Park, PA and final aircraft assembly occurring in Amarillo, TX. There are no known offset agreements in connection with this potential sale.

Implementation of this proposed sale will require travel of United States Government or contractor representatives to GOJ on a temporary basis for program technical support and management oversight.

There will be no adverse impact on United States defense readiness as a result of this proposed sale.

Transmittal No.: 15-32

Notice of Proposed Issuance of LOA Pursuant to Section 36(b)(1) of the Arms Export Control Act

Annex

Item No. vii

(vii) Sensitivity of Technology

1. The V-22 Osprey is a United States military multi-mission, Tilt-Rotor aircraft with both a Vertical Takeoff and Landing (VTOL), and Short Takeoff and Landing (STOL) capability. It is designed to combine the functionality of a conventional helicopter with the long-range, high-speed cruise performance of a turboprop aircraft. The United States Marine Corps (USMC) began crew training for the Osprey in 2000, and fielded it in 2007. The V-22 aircraft is classified Secret.

2. The AN/AAQ-27A Forward Looking InfraRed (FLIR) is a third-generation, mid-wavelength infrared (MWIR) imaging system that allows aircrew to see through darkness, smoke, haze, and adverse weather. The system incorporates a state-of-the-art MWIR indium-antimonide (InSb) staring focal plane array with 480 x 640 detector elements. It has demonstrated superb image quality and range performance using non-developmental, in-production components to provide higher resolution imagery than current long-wavelength infrared systems. The system is Unclassified.

3. The AN/APR-39 Radar Warning Receiver (RWR) System monitors the environment for pulsed radar signals, characterizes and identifies them, and alerts the crew to the existence of emitters. The AN/APR-39 contributes to full-dimensional protection by improving individual aircraft probability of survival through improved aircrew situational awareness of the electromagnetic threat environment. These systems have specific aircraft applications providing varying levels and types of warning to allow aircrew to initiate evasive maneuvers or deploy active countermeasures. The hardware is classified as Unclassified and associated database is classified Secret.

4. The AN/ALE-47 Countermeasures Dispenser System (CMDS) is an Electronic Warfare (EW) System providing combat aircrews with enhanced survivability in all threat environments. This on board, self-protection capability stems from the integration of RWR hardware with a system for the dispensing of expendable countermeasures. The AN/ALE-47 CMDS provides the aircrew with a “smart” countermeasures dispensing system, allowing the aircrew to optimize the countermeasures employed against anti-aircraft threats. The system consists of five major components and several sub-components: control display units, programmers, safety switches, sequencers, and dispensers. The hardware is classified as Unclassified and associated database is classified Secret.

5. The AN/AAR-47 is an Electronic Warfare (EW) system designed to protect aircraft against Infrared-Guided (IR) missile threats, laser-guided/laser-aided threats, and unguided munitions. Upon detection of the threat, the system will provide an audio and visual sector warning to the pilot. For IR missile threats, the system automatically initiates countermeasures by sending a command signal to the CMDS. The AN/AAR-47 includes sensor pre-processing for improved performance in high-clutter environments. The hardware is classified as Unclassified and associated database is classified Secret.

6. The AN/APX-123 is an Identification Friend or Foe (IFF) digital transponder and is also used for the safe operation of military aircraft in civilian airspace. The AN/APX-123 meets all United States and North Atlantic Treaty Organization (NATO) mode 5 requirements. The transponder's open-system architecture design and high-density field programmable gate array technology ensures ongoing versatility and future utility through software upgrades, without the risk and cost associated with hardware modifications. The hardware is classified as Unclassified and associated keymat is classified as Secret.

7. The AN/ARN-153 is a full featured Tactical Air Navigation (TACAN) system capable of supporting the operational requirements of high performance aircraft in a lightweight compact design. The AN/ARN-153 supports four modes of operation: receive mode; transmit-receive mode; air-to-air receive mode; and air-to-air transmit-receive mode. The system is Unclassified.

8. The AN/ARN-147 system combines all VHF Omni Ranging/Instrument Landing System (VOR/ILS) functions into one compact, lightweight, low-cost set. It is the first militarized VHF navigation receiver to provide optional internal MIL-STD-1553B capability. The solid-state system is MIL-E-5400 class II qualified and meets international operability requirements by providing 50-kHz channel spacing for 160-VOR and 40-localizer/glideslope channels. Digital and analog outputs of the AN/ARN-147 ensure compatibility with high-performance flight control systems and both digital and analog instruments. Modular construction techniques give you quick access to all cards and modules to reduce repair time. The system is Unclassified.

9. The AN/ARC-210 multimode integrated communications system is designed to provide multimode voice and data communications in either normal or jam-resistant modes in line-of-sight mode. The system is capable of establishing 2-way communication links over the 30 to 512MHz frequency range with tactical aircraft environments. The system is Unclassified.

10. The AN/APN-194 Radar Altimeter Receiver-Transmitter is a high-resolution device which measures altitude from 0 to 5,000 ft. Above Ground Level (AGL). The radar altimeter measures the time (analogous to distance) required for a pulse of electromagnetic energy to travel from the aircraft to the ground and back to the aircraft. The AN/APN-194 employs a narrow-pulse transmission in the C-band range with leading edge tracking of the echo pulse. Altitude range information is obtained by comparing the received echo pulse with a timed ramp voltage generated simultaneously with the transmitted pulse. The output of the AN/APN-194 is fed into the autopilot of the target to control the altitude of low-flying targets. The system is Unclassified.

11. The AN/ASN-163 is a 5-channel Miniature Airborne GPS Receiver (MAGR) that provides Over-The-Horizon and secure navigation capabilities using satellite information. The hardware is classified as Unclassified and associated keymat is classified as Confidential.

12. The AN/AVS-9 is a dual tube night vision goggle. Third generation image intensifiers are standard for military night vision. The goggle offers high resolution, high gain, photoresponse to near infrared, and exceptional reliability. There are helmet mount configurations designed for fixed-wing and rotary-wing applications, adapting to most aviator helmets. The system is Unclassified.

13. Joint Mission Planning System (JMPS) is a Windows7, PC-based common approach for aircraft mission planning. It is a system of common and host-platform-unique mission planning applications for Navy and Marine Corps aircraft. Using a “building block” approach, developers integrate and assemble a JMPS Mission Planning Environment (MPE) from a set of software sub-components to meet the needs of a particular aircraft type. An MPE consists of a framework, one or more common components/federated applications, and then a Unique Planning Component (UPC).—The foundation of an MPE is the framework, which allows the host operating system to interface and interact with the MPE. The second level of an MPE consists of the common components and/or federated applications; these applications provide functionality that is common to multiple aircraft platforms (i.e. weather or GPS munitions). The final level of software is the UPC, which provides platform-specific functionality and integrates the common component functions and the framework interface to produce the overall mission planning software environment for the platform. When bundled, the three levels of software become an MPE that is specific to a single aircraft type. Depending on the aircraft model, a JMPS MPE might operate on stand-alone, locally networked, or domain controlled Windows 7 computers, or a mixture of all three operating environments. The system is Unclassified.

14. If a technologically advance adversary were to obtain knowledge of the specific hardware and software elements, the information could be used to develop countermeasures that might reduce weapon system effectiveness or be used in the development of a system with similar advanced capabilities.

15. A determination has been made that Japan can provide substantially the same degree of protection for the sensitive information being released as the U.S. Government. This sale is necessary in furtherance of the U.S. foreign policy and national security objective outlined in the Policy Justification.

16. All defense articles and services listed in this transmittal have been authorized for release and export to the Government of Japan.

[FR Doc. 2015-11614 Filed 5-13-15; 8:45 am]

BILLING CODE 5001-06-P